DEPARTMENT OF THE TREASURY

Submission for OMB Review; Comment Request

July 13, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 21, 2006 to be assured of consideration.

Financial Management Service

OMB Number: 1510-0056.

Type of Review: Extension.

Title: ACH Vendor/Miscellaneous Payment Enrollment Form.

Form: FMS 3881.

Description: Payment data will be collected from vendors doing business with the Federal Government. FMS/Treasury will use the information to electronically transmit payments to vendors' financial institutions.

Respondents: Business or other for-profit, not-for-profit and State, Local or Tribal Government.

Estimated Total Burden Hours: 17,500 hours.

Clearance Officer: Jiovannah Diggs, (202) 874-7662, Financial Management Service, Room 144, 3700 East West Highway, Hyattsville, MD 20782.

OMB Reviewer: Alexander T. Hunt, (202) 395-7316, Office of Management and Budget, Room 10235, New Executive Office Building, Washington, DC 20503.

Michael A. Robinson,
Treasury PRA Clearance Officer.

[FR Doc. E6-11481 Filed 7-19-06; 8:45 am]

BILLING CODE 4810-35-P